DEPARTMENT OF HEALTH AND HUMAN SERVICES

Indian Health Service

Indian Health Service Medical Staff Credentials and Privileges Files

AGENCY: Indian Health Service, HHS.

ACTION: Request for public comment: 30-day proposed collection: Indian Health Service medical staff credentials and privileges files.

SUMMARY: The Indian Health Service (IHS), as part of its continuing effort to reduce paperwork and respondent burden, conducts a pre-clearance consultation program to provide the general public and Federal agencies with an opportunity to comment on proposed and/or continuing collections of information in accordance with the Paperwork Reduction Act of 1995 (44 U.S.C. 3506(c)(2)(A)). This program helps to ensure that requested data can be provided in the desired format, reporting burden (time and financial resources) is minimized, collection instruments are clearly understood, and the impact of collection requirements on respondents can be properly assessed. As required by section 3507(a)(1)(D) of the Act, the proposed information collection has been submitted to the Office of Management and Budget (OMB) for review and approval.

The IHS received comments in response to the 60-day Federal Register notice (67 FR 50892) published on August 6, 2002. The public comments received in response to the notice and the agency responses are summarized and addressed below.

Comment: One comment questioned the accuracy of the public burden estimate for this collection of information by indicating the burden estimate seemed to be too low.

Agency response: The burden estimate was checked by having additional clinical staff review and complete the application formats. This consultation was conducted within the Department of Health and Human Services with the Federal Credentialing Program, and with several Department of Defense (DoD) hospital medical staff members. They confirmed the accuracy of the burden hour estimates for formats used in this information collection activity and the burden for the Application to Medical staff was increased accordingly. They made no specific recommendations to change any of the application formats or process.

Comments: One comment suggested we consider the time burden spent by agency staff on this activity.

Agency response: The time spent by agency staff to handle and process this data collection is not considered in the “public” burden estimate. However, the agency is examining methods to reduce the time it takes agency staff to process this required data.

Comment: One comment suggested IHS centralize or regionalize the credentialing process and make it a web-based format.

Agency response: Agency staff responsible for oversight of the medical staff credentials and privileges application process are currently collaborating with the Veterans Health Administration and DoD health program staff to make cost-appropriate advances and improvements in the credentials process and to automated appropriate portions of the credentials and privileges process. At present, automation of this process and use of a data repository like the Federal Credentialing Program or other complex relational databases is prohibitively expensive for the IHS. It is hoped that the collaboration will result in the automation and/or centralization/regionalization of some aspects of the agency's credentialing process and thereby reduce the public burden to provide the data and the agency staff time needed to process the data.

Comment: One comment suggested IHS implement a nationwide corporate credentialing service with staff trained in the credentialing process.

Agency response: The collaboration discussed above will address this suggestion.

Comment: One comment suggested the credentialing process include a “criminal background check”.

Agency response: The criminal background check is not a part of the IHS credentialing process. However, Public Law 101-630, the Indian Child Protection and Family Violence Protection Act, requires that all IHS employees, including the medical staff, with potential direct or unobserved contact with kids be checked for any history of criminal acts against children. In addition, the Division of Commissioned Personnel, United States Public Health Service, conducts a criminal background check as part of its Childcare National Agency Check with Written Inquiries (CNACI) system on all new appointees.

The purpose of this notice is to allow an additional 30 days for public comment to be submitted directly to OMB.

Proposed Collection

Title: 09-17-0009, “Indian Health Service Medical Staff Credentials and Privileges Files.” Type of Information Collection Request: Extension of a currently approved information collection, 09-17-0009, “Indian Health Service Medical Staff Credentials and Privileges Files.” Form Number: Instructions and information collection formats are contained in IHS Circular No. 95-16, “Credentials and Privileges Review Process for the Medical Staff.” Need and Use of Information Collection: The IHS operates health care facilitates that provide health care services to American Indians and Alaska Natives. To provide these services, the IHS employs (directly and under contract) several categories of health care providers including: physicians (M.D. and D.O.), dentists, psychologists, optometrists, podiatrists, audiologists, physician assistants, certified registered nurse anesthetists, nurse practitioners, and certified nurse midwives. IHS policy specifically requires physicians and dentists to be members of the health care facility medical staff where they practice. Health care providers become medical staff members, depending on the local health care facility's capabilities and medical staff bylaws. There are three types of IHS medical staff applicants: (1) Health care providers applying for direct employment with IHS (2) contract health care providers who will not seek to become IHS employees; and (3) employed IHS health care providers who seek to transfer between IHS health care facilities.

National health care standards developed by the Health Care Financing Administration and by the Joint Commission on Accreditation of Healthcare Organizations (JCAHO) require health care facilities to review, evaluate and verify the credentials, training and experience of medical staff applicants prior to granting medical staff privileges. To meet these standards, IHS health care facilities require each medical staff applicant to provide information concerning their education, training, licensure, and work experience and any adverse disciplinary actions taken against them. This information is then verified with references supplied by the applicant and may include: former employers, educational institutions, licensure and certification boards, the American Medical Association, the Federation of State Medical Boards, the National Practitioner Data Bank, and the applicants themselves.

In addition to the initial granting of medical staff membership and clinical privileges, JCAHO standards require that a review of the medical staff be conducted not less than every two years. This review evaluates the current competence of the medical staff and verifies whether they are maintaining their licensure and the certification requirements of their specialty.

The medical staff credentials and privileges records are maintained at the health care facility where the health care provider is a medical staff member. The establishment of these records at IHS health care facilities is not optional; such records must be established and maintained at all health care facilities in the United States that are accredited by JCAHO. This information collection activity is used to evaluate individual health care providers applying for medical staff privileges at Indian Health Service (IHS) health care facilities.

Affected Public: Individuals, Businesses or other for-profit, Not-for-profit institutions and State, local or Tribal Government.

Type of Respondents: Health care providers requesting medical staff privileges at IHS health facilities.

The table below provides the following: Types of data collection instruments, estimated number of respondents, number of responses per respondent, annual number of responses, average burden hour per response, and total annual burden hour.

Data collection instrument | Estimated number of respondents | Responses per respondent | Annual number of responses | Average burden hour per response* | Total annual burden hours
Application to Medical Staff | 600 | 1 | 600 | 1.00 (60 mins) | 600.0
Reference letter | 1,800 | 1 | 1,800 | 0.33 (20 mins) | 600.0
Reappointment request | 644 | 1 | 644 | 1.00 (60 mins) | 644.0
Medical Privileges | 387 | 1 | 387 | 1.00 (60 mins) | 387.0
Ob-Gyn Privileges | 25 | 1 | 25 | 1.00 (60 mins) | 25.0
Surgical Privileges | 23 | 1 | 23 | 1.00 (60 mins) | 23.0
Psychiatric Privileges | 18 | 1 | 18 | 1.00 (60 mins) | 18.0
Anesthesia Privileges | 16 | 1 | 16 | 1.00 (60 mins) | 16.0
Dental Privileges | 128 | 1 | 128 | 0.33 (20 mins) | 42.2
Optometric Privileges | 21 | 1 | 21 | 0.33 (20 mins) | 6.9
Psychology Privileges | 23 | 1 | 23 | 0.17 (10 mins) | 4.0
Audiology Privileges | 6 | 1 | 6 | 0.08 (5 mins) | 0.5
Podiatric Privileges | 6 | 1 | 6 | 0.08 (5 mins) | 0.5
Radiology Privileges | 9 | 1 | 9 | 0.33 (20 mins) | 3.0
Pathology Privileges | 3 | 1 | 3 | 0.33 (20 mins) | 1.0
Total | 3,709 |  |  |  | 2,371.0
*For ease of understanding, burden hours are also provided in actual minutes.

There are no Capital Cost, Operating Costs and/or Maintenance Costs to report.

Request for Comments: Your written comments and/or suggestions are invited on one or more of the following points: (a) Whether the information collection activity is necessary to carry out an agency function; (b) whether the agency processes the information collected in a useful and timely fashion; (c) the accuracy of public burden estimate (the estimated amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Direct Comments to OMB: Send your written comments and suggestion regarding the proposed information collection contained in this notice, especially regarding the estimated public burden and associated response time, to: Office of Management and Budget, Office of Regulatory Affairs, New Executive Office Building, Room 10235, Washington, DC 20503, Attention: Allison Eydt, Desk Officer for IHS.

Send requests for more information on the proposed collection or to obtain a copy of the data collection instrument(s) and instructions to: Mr. Lace Hadohkwen, Sr., M.P.H., IHS Reports Clearance Officer, 12300 Twinbrook Parkway, Suite 450, Rockville, MD 20852, 1601, call non-toll free (301) 443-1116, send via facsimile to (301) 443-2316, or send your E-mail requests, comments, and return address to: 1hodahkw@hqe.ihs.gov.

FOR FURTHER INFORMATION CONTACT: Directly pertaining to the proposed data collection instruments and/or the process, please contact Katherine Ciacco Palatianos, MD, 801 Thompson Avenue, Suite 320, Rockville, Md 20852-1627, Telephone (303) 443-1479.

Comment Due Date: Your comments regarding this information collection are best assured of having their full effect if received within 30-days of the date of this publication.

Dated: December 3, 2002.
Robert G. McSwain,
Acting Interim Director.

[FR Doc. 02-31251 Filed 12-11-02; 8:45 am]

BILLING CODE 4160-16-M